DEPARTMENT OF TRANSPORTATION

Federal Railroad Administration

[Docket Number FRA-2017-0017]

Notice of Application for Approval of Discontinuance or Modification of a Railroad Signal System

Under part 235 of Title 49 of the Code of Federal Regulations (CFR) and 49 U.S.C. 20502(a), this document provides the public notice that on April 28, 2017, Norfolk Southern Corporation (NS) submitted an amended petition to the Federal Railroad Administration (FRA) seeking approval for the discontinuance or modification of a signal system. FRA assigned the original and amended petitions Docket Number FRA-2017-0017.

Applicant: Norfolk Southern Corporation, Mr. B.L. Sykes, Chief Engineer C&S Engineering, 1200 Peachtree Street NE., Atlanta, GA 30309.

NS seeks a waiver from compliance with cab signal system requirements in 49 CFR 236.566, Locomotive of each train operating in train stop, train control, or cab signal territory; equipped, at the following geographic locations:

• Between control point (CP) Bright, milepost (MP) PC28.2 and CP Rochester, MP PC25.9 in the area of Rochester, PA.

• Movements on Fort Wayne Main 1 or Main 2 to or from Youngstown Line.

After turnout rationalization and installation of new cab signal operations east of CP Rochester, completed in conjunction with PTC implementation, NS requests that FRA expand the limits of the waiver to include operations between:

• CP Rochester on Fort Wayne Line Main 1 for movements to or from the Cleveland Line.

• CP West Conway, MP PC24.5 on Fort Wayne Line Main 1 or Main 2 for movements to or from Youngstown Line track #101 or #102.

All movements will be made with an absolute block at Restricted Speed.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 3, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety Chief Safety Officer.

[FR Doc. 2017-10246 Filed 5-18-17; 8:45 am]

BILLING CODE 4910-06-P